ENVIRONMENTAL PROTECTION AGENCY

[EPA-HQ-OECA-2011-0228; FRL—9992-12-OMS]

Information Collection Request Submitted to OMB for Review and Approval; Comment Request; NSPS for Petroleum Refineries for Which Construction, Reconstruction, or Modification Commenced After May 14, 2007 (Renewal)

AGENCY: Environmental Protection Agency (EPA).

ACTION: Notice.

SUMMARY: The Environmental Protection Agency (EPA) has submitted an information collection request (ICR), NSPS for Petroleum Refineries for which Construction, Reconstruction, or Modification Commenced after May 14, 2007 (EPA ICR No. 2263.06, OMB Control No. 2060-0602), to the Office of Management and Budget (OMB) for review and approval in accordance with the Paperwork Reduction Act. This is a proposed extension of the ICR, which is currently approved through April 30, 2019. Public comments were previously requested, via the Federal Register, on May 31, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before May 29, 2019.

ADDRESSES: Submit your comments, referencing Docket ID Number EPA-HQ-OECA-2011-0228, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The New Source Performance Standards (NSPS), for which Construction, Re-construction, or Modification Commenced after May 14, 2007 (40 CFR part 60, subpart Ja) apply to the following affected facilities in petroleum refineries: Fluid catalytic cracking units (FCCU), fluid coking units (FCU), delayed coking units, fuel gas combustion devices (FGCD), process heaters, flares and sulfur recovery plants. Except for flares, these regulations apply to affected facilities at existing and new petroleum refineries that are constructed, reconstructed, or modified after May 14, 2007. The provisions of this subpart apply to flares which commence construction, modification or reconstruction after June 24, 2008. New facilities include those that commenced construction, modification or reconstruction after the date of proposal. This information is being collected to assure compliance with 40 CFR part 60, subpart Ja.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Petroleum refineries constructed, reconstructed, or modified after May 14, 2007.

Respondent's obligation to respond: Mandatory (40 CFR part 63, subpart Ja).

Estimated number of respondents: 150 (total).

Frequency of response: Initially and semiannually.

Total estimated burden: 355,000 hours (per year). Burden is defined at 5 CFR 1320.3(b).

Total estimated cost: $143,000,000 (per year), which includes $102,000,000 in annualized capital/startup and/or operation & maintenance costs.

Changes in the Estimates: The adjustment increase in burden from the most recently-approved ICR is due to an increase in the estimates for the number of existing facilities located at petroleum refineries that become subject to the requirements of Subpart Ja because they are newly constructed, reconstructed or modified. The previous ICR renewal estimated that approximately 54 facilities with 2 CEMS each would become affected facilities subject to the rule each year. In this renewal ICR, that estimate has been increased to 100 facilities with 3 CEMS/CPMS each. The increase in burden is due to an increase in the estimates for the number of new, reconstructed, or modified facilities that are required to conduct initial performance tests on the equipment and the emissions and parameter monitors (CEMS and CPMS). For each startup and test of new, modified, or reconstructed equipment, there are numerous notifications and reports that must be submitted and reviewed. The adjustment increase in burden also reflects an increase in the number of CEMS and CPMS monitors on existing affected facilities that require routine performance audits (Relative Accuracy Audits or Cylinder Gas Audits) and relative accuracy testing; these costs were not included in the prior ICR.

The increase in burden also reflects an increase in the estimates for the costs of new equipment and the required CEMS/CPMS monitors. The previous ICR renewal did not include the capital/startup costs for new, modified, or reconstructed equipment/process lines. This ICR estimates that, out of 100 facilities per year that become subject to the rule due to construction, modification, or reconstruction, 50 of these affected facilities per year will incur significant capital/startup costs.

The increase in capital and O&M costs from the most recently approved ICR also reflects an increase in the estimates for the number of existing facilities located at petroleum refineries that are already subject to the requirements of Subpart Ja. The O&M costs for the CEMS and CPMS monitors on these existing facilities (280 flares and 600 other process units) were not accounted for in the prior ICR and are significant. The estimates of O&M costs for CEMS monitors have also been increased from approximately $15,000 per year to $25,000 per year based on comments provided by industry.

Courtney Kerwin,
Director, Regulatory Support Division.

[FR Doc. 2019-08509 Filed 4-26-19; 8:45 am]

BILLING CODE 6560-50-P